DEPARTMENT OF ENERGY

Federal Energy Regulatory Commission

[Docket No. EL18-142-000]

Louisiana Public Service Commission v. System Energy Resources, Inc. and Entergy Services, Inc.; Notice of Complaint

Take notice that on April 27, 2018, pursuant sections 206, 306, and 309 of the Federal Power Act ¹ and Rule 206 of the Federal Energy Regulatory Commission's (Commission) Rules of Practice and Procedure,² Louisiana Public Service Commission (Complainant) filed a formal complaint against System Energy Resources, Inc., and Entergy Services, Inc. (collectively, Respondents) alleging that Respondents' return on equity is unjustly and unreasonably excessive, its capital structure is unjustly and unreasonably rich with equity, and its depreciation rates are excessive, all as more fully explained in the complaint.

¹ 16 U.S.C. 824(e), 825(e), and 825(h).

² 18 CFR 385.206.

Complainant certify that copies of the complaint were served on contacts for Respondents.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondents' answer and all interventions, or protests must be filed on or before the comment date. The Respondents' answer, motions to intervene, and protests must be served on the Complainants.

The Commission encourages electronic submission of protests and interventions in lieu of paper using the eFiling link at http://www.ferc.gov. Persons unable to file electronically should submit an original and 5 copies of the protest or intervention to the Federal Energy Regulatory Commission, 888 First Street NE, Washington, DC 20426.

This filing is accessible on-line at http://www.ferc.gov, using the eLibrary link and is available for electronic review in the Commission's Public Reference Room in Washington, DC There is an eSubscription link on the website that enables subscribers to receive email notification when a document is added to a subscribed docket(s). For assistance with any FERC Online service, please email FERCOnlineSupport@ferc.gov, or call (866) 208-3676 (toll free). For TTY, call (202) 502-8659.

Comment Date: 5:00 p.m. Eastern Time on May 17, 2018.

Dated: April 27, 2018.
Kimberly D. Bose,
Secretary.

[FR Doc. 2018-09453 Filed 5-3-18; 8:45 am]

BILLING CODE 6717-01-P